DEPARTMENT OF COMMERCE

National Institute of Standards and Technology

Visiting Committee on Advanced Technology

AGENCY: National Institute of Standards and Technology, Department of Commerce.

ACTION: Notice of Public Meeting.

SUMMARY: The Visiting Committee on Advanced Technology (VCAT or Committee), National Institute of Standards and Technology (NIST), will meet Tuesday, June 7, 2011, from 8:30 a.m. to 5 p.m. and Wednesday, June 8, 2011, from 8:30 a.m. to 12 p.m. The Visiting Committee on Advanced Technology is composed of fifteen members appointed by the Director of NIST who are eminent in such fields as business, research, new product development, engineering, labor, education, management consulting, environment, and international relations.

DATES: The VCAT will meet on Tuesday, June 7, 2011, from 8:30 a.m. to 5 p.m. and Wednesday, June 8, 2011, from 8:30 a.m. to 12 p.m.

ADDRESSES: The meeting will be held in the Portrait Room, Administration Building, at NIST, Gaithersburg, Maryland. Please note admittance instructions under the SUPPLEMENTARY INFORMATION section of this notice.

FOR FURTHER INFORMATION CONTACT: Stephanie Shaw, Visiting Committee on Advanced Technology, National Institute of Standards and Technology, Gaithersburg, Maryland 20899-1060, telephone number (301) 975-2667. Ms. Shaw's e-mail address is Stephanie.shaw@nist.gov.

SUPPLEMENTARY INFORMATION:

Authority: 15 U.S.C. 278.

The purpose of this meeting is to review and make recommendations regarding general policy for the Institute, its organization, its budget, and its programs within the framework of applicable national policies as set forth by the President and the Congress. The first day's agenda will include an update on NIST; an update on the Baldrige Performance Excellence Program and proposed changes; a progress report on the National Science and Technology Council's Subcommittee on Standards; and presentations and discussions on the NIST roles in manufacturing and in the President's Wireless Innovation Initiative. A VCAT Subcommittee on Manufacturing and a VCAT Subcommittee on Public Safety Networks will meet concurrently in open session at the end of the day. The VCAT subcommittees will reconvene on the second day, followed by the full Committee's wrap-up discussion and plans for future VCAT subcommittee activities. The agenda may change to accommodate Committee business. The final agenda will be posted on the NIST Web site at http://www.nist.gov/director/vcat/agenda.htm.

Individuals and representatives of organizations who would like to offer comments and suggestions related to the Committee's affairs are invited to request a place on the agenda. On June 7, 2011, approximately one-half hour will be reserved in the afternoon for public comments, and speaking times will be assigned on a first-come, first-serve basis. The amount of time per speaker will be determined by the number of requests received, but is likely to be about 3 minutes each. The exact time for public comments will be included in the final agenda that will be posted on the NIST Web site at http://www.nist.gov/director/vcat/agenda.htm. Questions from the public will not be considered during this period. Speakers who wish to expand upon their oral statements, those who had wished to speak but could not be accommodated on the agenda, and those who were unable to attend in person are invited to submit written statements to the VCAT, National Institute of Standards and Technology, 100 Bureau Drive, MS 1060, Gaithersburg, Maryland 20899, via fax at (301) 216-0529 or electronically by e-mail to gail.ehrlich@nist.gov.

All visitors to the NIST site are required to pre-register to be admitted. Please submit your name, time of arrival, e-mail address and phone number to Stephanie Shaw by close of business Thursday, June 2, 2011. Non-U.S. citizens must also submit their country of citizenship, title, employer/sponsor, and address. Ms. Shaw's e-mail address is stephanie.shaw@nist.gov and her phone number is (301) 975-2667.

Dated: May 13, 2011.
Charles H. Romine,
Acting Associate Director for Laboratory Programs.

[FR Doc. 2011-12453 Filed 5-19-11; 8:45 am]

BILLING CODE 3510-13-P